ENVIRONMENTAL PROTECTION AGENCY

[EPA-HQ-OPP-2016-0385; FRL-9955-44]

FIFRA Scientific Advisory Panel; Notice of Rescheduled Public Meeting

AGENCY: Environmental Protection Agency (EPA).

ACTION: Notice.

SUMMARY: The Agency is issuing this notice to reschedule the 4-day meeting of the Federal Insecticide, Fungicide, and Rodenticide Act Scientific Advisory Panel (FIFRA SAP) to consider and review a set of scientific issues being evaluated by the Environmental Protection Agency (EPA) regarding EPA's evaluation of the carcinogenic potential of glyphosate, a non-selective, phosphonomethyl amino acid herbicide registered to control weeds in various agricultural and non-agricultural settings.

DATES: The meeting will be held on December 13-16, 2016, from approximately 9:00 a.m. to 5:00 p.m.

ADDRESSES: The meeting will be held at the Environmental Protection Agency, Conference Center, Lobby Level, One Potomac Yard (South Bldg.), 2777 S. Crystal Dr., Arlington, VA 22202.

FOR FURTHER INFORMATION CONTACT: Steven M. Knott, DFO, Office of Science Coordination and Policy (7201M), Environmental Protection Agency, 1200 Pennsylvania Ave. NW., Washington, DC 20460-0001; telephone number: (202) 564-0103; email address: knott.steven@epa.gov.

SUPPLEMENTARY INFORMATION:

Background

The Agency is issuing this notice to reschedule the 4-day meeting of the FIFRA SAP to consider and review a set of scientific issues being evaluated by EPA regarding EPA's evaluation of the carcinogenic potential of glyphosate, a non-selective, phosphonomethyl amino acid herbicide registered to control weeds in various agricultural and non-agricultural settings. The meeting was originally scheduled for October 18-21, 2016 as announced in the Federal Register on July 26, 2016 (81 FR 48794) (FRL 9949-22). The new meeting dates are December 13-16, 2016. For additional information, please visit the public docket for this meeting at http://www.regulations.gov (Docket number EPA-HQ-OPP-2016-0385), the FIFRA SAP Web site at http://www.epa.gov/sap or contact the Designated Federal Official (DFO) listed under FOR FURTHER INFORMATION CONTACT.

Authority: 7 U.S.C. 136 et. seq.; 21 U.S.C. 301 et seq.

Dated: November 17, 2016.
Laura Bailey,
Acting Director, Office of Science Coordination and Policy.

[FR Doc. 2016-28270 Filed 11-22-16; 8:45 am]

BILLING CODE 6560-50-P